DEPARTMENT OF TRANSPORTATION

Surface Transportation Board

[STB Finance Docket No. 35020]

Northern and Bergen Railroad, L.L.C.—Acquisition Exemption—a Line of Railroad Owned by New York & Greenwood Lake Railway

Northern and Bergen Railroad, L.L.C. (NBR), a noncarrier, has filed a notice of exemption under 49 CFR 1150.31 to acquire (by purchase) 1.1 miles of rail line from the New York & Greenwood Lake Railway. The line to be acquired extends from milepost 0.0, at or near the connection with the track of Norfolk Southern Railway Company in the Borough of Garfield, Bergen County, NJ, to milepost 1.1, at or near the intersection of South and Fourth Streets in the City of Passaic, Passaic County, NJ.

NBR certifies that the projected annual freight revenues as a result of this transaction will not exceed the amounts that would qualify it as a Class III railroad.

The earliest this transaction may be consummated is May 26, 2007, the effective date of the exemption (30 days after the exemption was filed). NBR indicates that it intends to consummate the transaction on or before May 31, 2007, but not before May 26, 2007.

If the verified notice contains false or misleading information, the exemption is void ab initio. Petitions to revoke the exemption under 49 U.S.C. 10502(d) may be filed at any time. The filing of a petition to revoke will not automatically stay the transaction. Petitions for stay must be filed no later than May 18, 2007 (at least 7 days before the exemption becomes effective).

An original and 10 copies of all pleadings, referring to STB Finance Docket No. 35020, must be filed with the Surface Transportation Board, 395 E Street, SW., Washington, DC 20423-0001. In addition, a copy of each pleading must be served on Jeffrey O. Moreno, Esq., Thompson Hine LLP, 1920 N Street, NW., Suite 800, Washington, DC 20036-1600.

Board decisions and notices are available on our Web site at http://www.stb.dot.gov.

Decided: May 4, 2007.
By the Board, David M. Konschnik, Director, Office of Proceedings.
Vernon A. Williams,
Secretary.

[FR Doc. E7-9114 Filed 5-10-07; 8:45 am]

BILLING CODE 4915-01-P